DEPARTMENT OF TRANSPORTATION

National Highway Traffic Safety Administration

[Docket No. NHTSA-2019-0102]

RIN 2127-ZRIN

Advanced Driver Assistance Systems Draft Research Test Procedures

AGENCY: National Highway Traffic Safety Administration (NHTSA), Department of Transportation (DOT).

ACTION: Request for comment (RFC); extension of comment period.

SUMMARY: In response to multiple requests, NHTSA is extending the comment period on the Advanced Driver Assistance Systems (ADAS) Draft Research Test Procedures RFC to March 6, 2020. The RFC was published in the Federal Register on November 21, 2019. The comment period was originally scheduled to end on January 21, 2020.

DATES: The comment period for the request for comment published November 21, 2019, at 84 FR 64405, is extended. Written comments must be received on or before March 6, 2020 in order to be considered timely.

ADDRESSES:

Documents: The draft research test procedures described in this RFC are available for viewing in PDF format in Docket No. NHTSA-2019-0102.

Comments: You may submit comments, identified by Docket No. NHTSA-2019-0102, by any of the following methods:

• Internet: To submit comments electronically, go to the U.S. Government regulations website at http://www.regulations.gov. Follow the online instructions for submitting comments.

• Fax: Written comments may be faxed to 202-493-2251.

• Mail: Send comments to Docket Management Facility, U.S. Department of Transportation, 1200 New Jersey Avenue SE, West Building Ground Floor, Room W12-140, Washington, DC 20590-0001.

• Hand Delivery: If you submit written comments by hand or courier, please do so at 1200 New Jersey Avenue SE, West Building Ground Floor, Room W12-140, Washington DC between 9 a.m. and 5 p.m. Eastern Time, Monday through Friday, except Federal holidays.

• You may call Docket Management at 1-800-647-5527.

Instructions: For detailed instructions on submitting comments and additional information, see the Public Participation heading of the SUPPLEMENTARY INFORMATION section of this document. Note that all comments received will be posted without change to http://www.regulations.gov, including any personal information provided.

Privacy Act: In accordance with 5 U.S.C. 553(c), DOT solicits comments from the public to better inform its rulemaking process. DOT posts these comments, without edit, to www.regulations.gov, as described in the system of records notice, DOT/ALL-14 FDMS, accessible through https://www.transportation.gov/privacy. To facilitate tracking and response, we encourage commenters to provide their name, or the name of their organization; however, submission of names is completely optional. All timely comments will be fully considered, regardless of whether commenters directly identify themselves. If you wish to provide comments containing proprietary or confidential information, please contact the agency for alternate submission instructions.

FOR FURTHER INFORMATION CONTACT: For research issues: Mr. Garrick Forkenbrock, Research Engineer, Vehicle Research and Test Center, National Highway Traffic Safety Administration, 10820 SR 347, Bldg. 60, East Liberty, OH 43319. Telephone: 937-666-4511. Email: garrick.forkenbrock@dot.gov. For legal issues: Ms. Sara Bennett, Attorney-Advisor, Office of Chief Counsel, National Highway Traffic Safety Administration, 1200 New Jersey Avenue SE, Washington, DC 20590. Telephone: 202-366-2992. Email: sara.bennett@dot.gov.

SUPPLEMENTARY INFORMATION: On November 21, 2019, NHTSA published a request for comment (RFC) (84 FR 64405) on draft research test procedures that assess nine different ADAS technologies. This RFC includes test procedures that have been developed for research purposes only. For light vehicles, the research test procedures include: Active Parking Assist (APA); ¹ Blind Spot Detection (BSD); ² Blind Spot Intervention (BSI); ³ Intersection Safety Assist (ISA); ⁴ Opposing Traffic Safety Assist (OTSA); ⁵ Pedestrian Automatic Emergency Braking (PAEB); ⁶ Rear Automatic Braking; ⁷ and Traffic Jam Assist (TJA).⁸ For heavy vehicles, the research test procedures include: Forward Collision Warning (FCW) ⁹ and Automatic Emergency Braking (AEB).⁹

¹ National Highway Traffic Safety Administration (2019, August). Active park assist system confirmation test (DOT HS 812 714). Washington, DC: National Highway Traffic Safety Administration.

² National Highway Traffic Safety Administration (2018, June). Blind spot detection system confirmation test (working draft). Washington, DC: National Highway Traffic Safety Administration.

³ National Highway Traffic Safety Administration (2019, July). Blind spot intervention system confirmation test (working draft). Washington, DC: National Highway Traffic Safety Administration.

⁴ National Highway Traffic Safety Administration (2019, September). Intersection safety assist system confirmation test (working draft). Washington, DC: National Highway Traffic Safety Administration

⁵ National Highway Traffic Safety Administration (2019, September). Opposing traffic safety assist system confirmation test (working draft). Washington, DC: National Highway Traffic Safety Administration.

⁶ National Highway Traffic Safety Administration (2019, April). Pedestrian automatic emergency brake system confirmation test (working draft). Washington, DC: National Highway Traffic Safety Administration.

⁷ National Highway Traffic Safety Administration (2015, December). Rear automatic braking feature confirmation test procedure). Washington, DC: National Highway Traffic Safety Administration. www.regulations.gov, Docket No. NHTSA-2015-0119-0030.

⁸ National Highway Traffic Safety Administration (2019, June). Traffic jam assist system confirmation test (working draft). Washington, DC: National Highway Traffic Safety Administration.

⁹ National Highway Traffic Safety Administration (2019, March). Test track procedures for heavy vehicle forward collision warning and automatic emergency braking systems. Washington, DC: National Highway Traffic Safety Administration.

On December 10, 2019, NHTSA received a request for a 45-day extension extension of the comment period from the Association of Global Automakers, Inc. and the Alliance of Automobile Manufacturers. This request can be found in the docket for the RFC listed above under ADDRESSES. NHTSA has considered this request and determined that a 45-day extension beyond the original due date is acceptable to provide additional time for the public to comment on the RFC. This is to notify the public that NHTSA is extending the comment period on the RFC, and allowing it to run until March 6, 2020.

Issued in Washington, DC, under authority delegated in 49 CFR 1.95 and 501.4.
James Clayton Owens,
Acting Administrator.

[FR Doc. 2020-00938 Filed 1-21-20; 8:45 am]

BILLING CODE 4910-59-P